ENVIRONMENTAL PROTECTION AGENCY

[EPA-HQ-OPP-2011-0038; FRL-9335-2]

Ace Info Solutions, Inc., and Information International Associates; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Ace Info Solutions, Inc., and its subcontractor, Information International Associates, in accordance with 40 CFR 2.307(h)(3) and 2.308(i)(2). Ace Info Solutions, Inc., and its subcontractor, Information International Associates, have been awarded a contract to perform work for OPP, and access to this information will enable Ace Info Solutions, Inc., and its subcontractor, Information International Associates, to fulfill the obligations of the contract.

DATES: Ace Info Solutions, Inc., and its subcontractor, Information International Associates, will be given access to this information on or before February 6, 2012.

FOR FURTHER INFORMATION CONTACT: Mario Steadman, Information Technology and Resources Management Division (7502P), Office of Pesticide Programs, Environmental Protection Agency, 1200 Pennsylvania Ave. NW., Washington, DC 20460-0001; telephone number: (703) 305-8338; email address: steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. EP-W-11-023, Ace Info Solutions, Inc., and its subcontractor, Information International Associates, will perform duties related to public access reference and referral:

1. EPA Desktop Library support;

2. Electronic resources management support, statistics reporting, library desk reference, library services outreach, communications and user support;

3. Metadata cataloging of web pages, cataloging of library and repository materials in support of the Headquarters and Chemical Libraries and Repository;

4. Information architecture support, consultation on site structure and development, creation of content inventories, support workgroups for the development of micro sites and resource directories; and

5. Web development, graphics creation, web page coding, Web 2.0 project support for wikis and blogs and web site design.

OPP has determined that access by Ace Info Solutions, Inc., and its subcontractor, Information International Associates, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Ace Info Solutions, Inc., and its subcontractor, Information International Associates, prohibits use of the information for any purpose not specified in the contract; prohibits disclosure of the information to a third party without prior written approval from the Agency; and requires that each official and employee of the contractor sign an agreement to protect the information from unauthorized release and to handle it in accordance with the FIFRA Information Security Manual. In addition, Ace Info Solutions, Inc., and its subcontractor, Information International Associates, are required to submit for EPA approval a security plan under which any CBI will be secured and protected against unauthorized release or compromise. No information will be provided to Ace Info Solutions, Inc., and its subcontractor, Information International Associates, until the requirements in this document have been fully satisfied. Records of information provided to Ace Info Solutions, Inc., and its subcontractor, Information International Associates, will be maintained by EPA project officers for this contract. All information supplied to Ace Info Solutions, Inc., and its subcontractor, Information International Associates, by EPA for use in connection with this contract will be returned to EPA when Ace Info Solutions, Inc., and its subcontractor, Information International Associates, have completed their work.

List of Subjects

Environmental protection, Business and industry, Government contracts, Government property, Security measures.

Dated: January 19, 2012.
Michael Hardy,
Acting Director, Information Technology and Resources Management Division, Office of Pesticide Programs.

[FR Doc. 2012-2033 Filed 1-30-12; 8:45 am]

BILLING CODE 6560-50-P